DEPARTMENT OF COMMERCE

Foreign-Trade Zones Board

[B-52-2016]

Foreign-Trade Zone (FTZ) 134—Chattanooga, Tennessee; Notification of Proposed Production Activity; Wacker Polysilicon North America LLC (Polysilicon); Charleston, Tennessee

Wacker Polysilicon North America LLC (Wacker) submitted a notification of proposed production activity to the FTZ Board for its facility in Charleston, Tennessee within FTZ 134. The notification conforming to the requirements of the regulations of the FTZ Board (15 CFR 400.22) was received on August 5, 2016.

A separate application for subzone designation at the Wacker facility was submitted and will be processed under Section 400.38 of the Board's regulations. The facility is used for the production of polysilicon. Pursuant to 15 CFR 400.14(b), FTZ activity would be limited to the specific foreign-status materials/components and specific finished products described in the submitted notification (as described below) and subsequently authorized by the FTZ Board.

Production under FTZ procedures could exempt Wacker from customs duty payments on the foreign-status materials/components used in export production (estimated 95 percent of production). On its domestic sales, Wacker would be able to choose the duty rate during customs entry procedures that applies to hyperpure polysilicon (duty-free) for the foreign-status material/component noted below. Customs duties also could possibly be deferred or reduced on foreign-status production equipment.

The material/component sourced from abroad is: silicon metal (duty rate: 5.3%). Wacker has only requested authority to admit silicon metal that is not subject to an antidumping/countervailing duty (AD/CVD) order to the zone in foreign status. Any silicon metal subject to an AD/CVD order would be brought into the zone in domestic (duty-paid) status.

Public comment is invited from interested parties. Submissions shall be addressed to the Board's Executive Secretary at the address below. The closing period for their receipt is September 26, 2016.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: August 10, 2016.
Andrew McGilvray,
Executive Secretary.

[FR Doc. 2016-19514 Filed 8-15-16; 8:45 am]

BILLING CODE 3510-DS-P